INTERNATIONAL TRADE COMMISSION

[USITC SE-03-008]

Sunshine Act Meeting Notice

Agency Holding the Meeting: International Trade Commission.

Time and Date: March 17, 2003, at 11 a.m.

Place: Room 101, 500 E Street, SW., Washington, DC 20436, Telephone: (202) 205-2000.

Status: Open to the public.

Matters to be Considered: 1. Agenda for future meetings: none.

2. Minutes.

3. Ratification List.

4. Inv. Nos. 701-TA-423 and 731-TA-1024-1028 (Preliminary) (Prestressed Concrete Steel Wire Strand from Brazil, India, Korea, Mexico, and Thailand)—briefing and vote. (The Commission is currently scheduled to transmit its determination to the Secretary of Commerce on March 17, 2003; Commissioners' opinions are currently scheduled to be transmitted to the Secretary of Commerce on or before March 24, 2003.)

5. Outstanding action jackets: none.

In accordance with Commission policy, subject matter listed above, not disposed of at the scheduled meeting, may be carried over to the agenda of the following meeting.

By order of the Commission.
Issued: March 4, 2003.
Marilyn R. Abbott,
Secretary to the Commission.

[FR Doc. 03-5599 Filed 3-5-03; 11:33 am]

BILLING CODE 7020-02-P